DEPARTMENT OF HOUSING AND URBAN DEVELOPMENT

[Docket No. FR-4912-N-11]

Notice of Availability of the Draft Environmental Impact Statement for the Development of Stillwater Business Park, City of Redding, CA

AGENCY: Office of the Assistant Secretary for Community Planning and Development, HUD.

ACTION: Notice.

SUMMARY: HUD gives notice to the public, agencies, and Indian tribes that the City of Redding, CA, has prepared a Draft Environmental Impact Statement (DEIS)/ Environmental Impact Report (EIR) for the Stillwater Business Park project located in Redding, CA. The City of Redding, CA has prepared the Draft EIS/EIR under its authority as the responsible entity for compliance with the National Environmental Policy Act (NEPA) in accordance with 42 U.S.C. 3547(c) and HUD regulations at 24 CFR 58.4 and under its authority as lead agency in accordance with the California Environmental Quality Act (CEQA). The draft EIS/EIS is a joint NEPA and CEQA document. The EIR will satisfy requirements of the CEQA (Public Resources Code 21000 et seq.) and State CEQ Guidelines (14 California Code of Regulations 15000 et seq.) that require that all state and local government agencies consider the environmental consequences of projects over which they have discretionary authority before acting on those projects. Because HUD Economic Development Initiative (EDI) special project funds would be used, the proposed action is also subject to NEPA. EPA, State and Tribal Assistance Grants (STAG) will also fund water and wastewater related infrastructure. EPA is acting as a cooperating agency for this process. This notice is given in accordance with the Council on Environmental Quality regulations at 40 CFR parts 1500-1508. All interested federal, state, and local agencies, Indian tribes, groups, and the public are invited to comment on the draft EIS.

DATES: Comments Due Date: May 9, 2005. Written comments on the Draft EIS should be addressed to the individual named below under the heading FOR FURTHER INFORMATION CONTACT.

Public Meeting: A public comment meeting will be held during the comment period in order to ensure public participation. The public meeting will be held on April 12, 2005, starting at 4 p.m. The public meeting will be held at the following location: City of Redding Council Chambers, 777 Cypress Ave, Redding, CA 96001.

FOR FURTHER INFORMATION CONTACT: Nathan Cherpeski, City of Redding, 777 Cypress Avenue, Redding, CA 96001, (530) 225-4519. The DEIS is available on the Internet and can be viewed or downloaded at: http://ci.redding.ca.us/cm/major_pr/still_buspk.html. Copies of the Draft EIS/EIR are also available for review at the following locations: City of Redding, Permit Center, 777 Cypress Ave, Redding, CA 96001; Shasta County Department of Resource Management, Planning Division, 1855 Placer Street, Redding, CA 96001; City of Anderson Planning Department, 1887 Howard Street, Anderson, CA 96007; Shasta County Library, 1855 Shasta Street, Redding, CA 96001; and Shasta County Library—Anderson Branch, 3200 West Center, Anderson, CA 96007.

SUPPLEMENTARY INFORMATION: A Notice of Intent to prepare a draft EIS was published May 11, 2004. The proposed action is the development of a large parcel business park through the acquisition of land and the construction of major infrastructure components and the provision of public services and utilities to serve the development. The City of Redding is proposing the development of the area east and northeast of the Municipal Airport in Redding, California. The proposed action study area is located on the Enterprise and Cottonwood, California 7.5-minute USGS quadrangles, Township 31 North, Range 4 West, Sections 2, 3, 10, 14, 15, 22, 23, 26, 34, and 35. The proposed location is classified a portion as industrial and a portion as park under the Redding General Plan, adopted in 2000. The purpose and need for this project is to increase the activity of contributory economic sectors by constructing a business park within the city of Redding sphere of influence capable of attracting and accommodating diverse business and industrial users.

Multiple alternatives were identified and discussed via the scoping process. After preliminary review, four alternatives were considered for full evaluation. They are:

Alternative 1—Development of a large lot business park capable of accommodating a broad range of industries near the Redding Municipal airport. This proposal would result in an approximate 687-acre business park consisting of 383 acres of developable land for a total of 4,410,400 sq. ft. of improvements for professional offices and industrial users. About 250 acres in the northern portion will be preserved as open space to protect the vernal pool and wetland features in the area. The proposal includes parcels ranging from 4 acres to more than 100 acres. An extensive trail system, for pedestrians and bikes, will wind throughout the project and the open space preserve. Part of this trail will also serve as a utility access road for a proposed 115Kv transmission line that runs through the northern open space area and then down the east side of the project area. This alternative involves two bridge crossings of Stillwater Creek and the construction of a backbone road, trunk sewer lines, water lines, traffic improvement, and other utilities. This alternative could also have impacts on vernal pool features and other jurisdictional waters. A portion of the site lies within Critical habitat for vernal pool species.

Alternative 2: (Preferred Alternative): An onsite variation of Alternative 1, the overall project is 687 acres with approximately 383 acres of developable land. The major change for this alternative is that it relocates the 115Kv transmission lines away from the open space area to the west side of the property near the proposed backbone road. A portion of the northern phase will be preserved as open space to protect the vernal pool wetland features in the area. The trail system was rerouted to protect sensitive open space areas. This alternative involves two bridge crossings of Stillwater Creek and the construction of a backbone road, trunk sewer lines, water lines, traffic improvement, and other utilities. This alternative could also have impacts on vernal pool features and other jurisdictional waters. A portion of the site lies within Critical habitat for vernal pool species.

Alternative 3: This offsite alternative includes the combination of separately owned parcels into a large (approximately 395 developable acres) potentially available site northwest of the Redding Municipal Airport. It is anticipated that this site could provide parcels ranging from 1.5 acres to 100 acres to meet the community's need. Based on projections for professional office and industrial users this could provide up to 4,499,000 sq. ft. of development. This alternative involves one bridge crossing of Clover Creek and the construction of a backbone road, sewer lines, water lines, traffic improvement, and other utilities. This alternative could also have impacts on vernal pool features and other jurisdictional waters. The site lies within the area designated as Critical habitat for vernal pool species.

No Project—No Action. No action would be taken. The land for all alternatives zoned for development will likely develop over the next 20 years in some fashion regardless of this proposal. An approximate 218-acre portion of Alternative 1 and 2 is designated as Park and would be developed in that fashion.

Actions common to all alternatives include certain traffic, electrical transmission lines, water, wastewater, and other utility improvements.

The DEIS/DEIR addresses the following environmental issues: Air quality, cultural resources, flood hazard, hydrology, noise, hazardous materials, biological resources, traffic, land use, erosion control, environmental justice, housing and population, growth inducing effects, and secondary and cumulative impacts.

Questions may be directed to the individual named above under the heading FOR FURTHER INFORMATION CONTACT.

Dated: March 16, 2005.
Nelson R. Bregón,
General Deputy Assistant Secretary for Community Planning and Development.

[FR Doc. E5-1253 Filed 3-22-05; 8:45 am]

BILLING CODE 4210-27-P